FEDERAL COMMUNICATIONS COMMISSION

47 CFR Part 73

[DA 08-1756; MB Docket No. 08-151; RM-11476]

Radio Broadcasting Services; Blythe, CA

AGENCY: Federal Communications Commission.

ACTION: Proposed rule.

SUMMARY: This document sets forth a proposal to amend the FM Table of Allotments, Section 73.202(b) of the Commission's rules, 47 CFR 73.202(b). The Commission requests comment on a petition filed by Prescott Valley Broadcasting Company, Inc. Petitioner proposes the substitution of FM Channel 247B for vacant Channel 239B at Blythe, California. The purpose of the requested channel substitution at Custer is to accommodate Petitioner's pending application to operate as a full-spaced Class C3 channel at Parker, Arizona. Channel 247B can be allotted at Blythe in compliance with the Commission's minimum distance separation requirements with a site restriction of 1 km (.61 miles) northeast of Blythe. The proposed coordinates for Channel 247B at Blythe are 33-37-02 North Latitude and 114-35-20 West Longitude. Concurrence by the Government of Mexico is required for the allotment of Channel 247B at Blythe, California, because the proposed allotment is located within 320 kilometers (200 miles) of the U.S.-Mexican border. See Supplementary Information infra.

DATES: Comments must be filed on or before September 22, 2008, and reply comments on or before October 7, 2008.

ADDRESSES: Federal Communications Commission, Washington, DC 20554. In addition to filing comments with the FCC, interested parties should serve petitioner's counsel as follows: David Tillotson, Esq., 4606 Charleston Terrace, NW., Washington, DC 20007.

FOR FURTHER INFORMATION CONTACT: Deborah A. Dupont, Media Bureau (202) 418-7072.

SUPPLEMENTARY INFORMATION: This is a synopsis of the Commission's Notice of Proposed Rule Making, MB Docket No. 08-151, adopted July 30, 2008, and released August 1, 2008. The full text of this Commission decision is available for inspection and copying during normal business hours in the FCC Reference Information Center (Room CY-A257), 445 12th Street, SW., Washington, DC 20554. The complete text of this decision may also be purchased from the Commission's copy contractor, Best Copy and Printing, Inc., 445 12th Street, SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under California, is amended by removing Channel 239B and by adding Channel 247B at Blythe.

Federal Communications Commission.
Robert A. Haynes,
Senior Attorney.

[FR Doc. E8-19652 Filed 8-25-08; 8:45 am]

BILLING CODE 6712-01-P